DEPARTMENT OF TRANSPORTATION

Federal Aviation Administration

[Summary Notice No. PE-2003-42]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Vanessa Wilkins, Office of Rulemaking (ARM-1), Federal Aviation Administration, 800 Independence Avenue, SW., Washington, DC 20591. Tel. (202) 267-8029.

This notice is published pursuant to 14 CFR sections 11.85 and 11.91.

Issued in Washington, DC, on July 17, 2003.
Donald P. Byrne,
Assistant Chief Counsel for Regulations.

Dispositions of Petitions

Docket No.: FAA-2002-12734.

Petitioner: Aerovias Nacionales De Columbia SA.

Section of 14 CFR Affected: 14 CFR part 145.47(b).

Description of Relief Sought/Disposition: To permit Avianca to substitute the calibration standards of the Physikalish-Technische Bundesanstalt, the national standards organization of Germany, for the calibration standards of the U.S. National Institute of Standards and Technology when testing its Hocherl and Hackl GmbH electronic load testing equipment. Grant, 7/01/2003, Exemption No. 8082.

Docket No.: FAA-2003-14893.

Petitioner: Mr. Michael Dickerson, Jr.

Section of 14 CFR Affected: 14 CFR part 65.71(a)(2).

Description of Relief Sought/Disposition: To permit the eligibility for a mechanic certificate and associated ratings, even though the petitioner is hearing impaired and unable to speak the English language. Grant, 6/24/2003, Exemption No. 8079.

Docket No.: FAA-2003-14797.

Petitioner: Kawasaki Heavy Industries, Ltd.

Section of 14 CFR Affected: 14 CFR part 145.47(b).

Description of Relief Sought/Disposition: To permit Kawasaki to use the measurement standards of the National Research Laboratory of Metrology and the Electrotechnical Laboratory, Japan's national standards organizations, instead of the measurement standards of the U.S. National Institute of Standards and Technology to calibrate its test and inspection equipment. Grant, 7/01/2003, Exemption No. 8081.

Docket No.: FAA-2003-14756.

Petitioner: Capitol Wings Airline, Inc.

Section of 14 CFR Affected: 14 CFR part 145.37(b).

Description of Relief Sought/Disposition: To permit Capitol Wings Airline, Inc., doing business as Bergstrom Airmotive, Inc., to qualify for a part 145 repair station certificate without having suitable permanent housing for at least one of the heaviest aircraft within the weight class for the rating it seeks. Grant, 7/01/2003, Exemption No. 8083.

[FR Doc. 03-18626 Filed 7-21-03; 8:45 am]

BILLING CODE 4910-13-P